COMMITTEE FOR PURCHASE FROM PEOPLE WHO ARE BLIND OR SEVERELY DISABLED

Procurement List; Proposed Additions and Deletions

AGENCY: Committee for Purchase From People Who Are Blind or Severely Disabled.

ACTION: Proposed additions to and deletions from the procurement list.

SUMMARY: The Committee is proposing to add service(s) to the Procurement List that will be furnished by nonprofit agencies employing persons who are blind or have other severe disabilities, and deletes product(s) previously furnished by such agencies.

DATES: Comments must be received on or before: January 10, 2021.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the service(s) listed below from nonprofit agencies employing persons who are blind or have other severe disabilities.

The following service(s) are proposed for addition to the Procurement List for production by the nonprofit agencies listed:

Service(s)

Service Type: Custodial and Related Services

Mandatory for: GSA PBS Region 5, Theodore Levin US Courthouse, Detroit, MI

Mandatory for: GSA PBS Region 5, Rosa Parks Federal Building, Detroit, MI

Mandatory for: GSA PBS Region 5, Rosa Parks Federal Garage, Detroit, MI

Mandatory for: GSA PBS Region 5, US Customs Cargo Inspection Facilities, Detroit, MI

Designated Source of Supply: Jewish Vocational Service and Community Workshop, Southfield, MI (Prime Contractor)

Designated Source of Supply: Services to Enhance Potential, Dearborn, MI (Subcontractor for the Rosa Parks Federal Building and Garage, and US Customs Cargo Inspection Facilities

Contracting Activity: PUBLIC BUILDINGS SERVICE, PBS R5

Deletions

The following product(s) are proposed for deletion from the Procurement List:

Product(s)

NSN(s)—Product Name(s):

MR 13120—Set, Container, Pop, 5pc

MR 13130—Set, Bowl, Colander, Large, 3 pc

MR 13131—Container, Rectangle, Pop, 1.5 Qt

MR 13132—Container, Square, Pop, Small, 0.9 Qt.

MR 13133—Container, Rectangle, Pop, 2.5 Qt.

MR 13134—Container, Square, Pop, Small, 0.3 Qt.

Designated Source of Supply: Cincinnati Association for the Blind, Cincinnati, OH

Contracting Activity: Military Resale-Defense Commissary Agency

NSN(s)—Product Name(s):

9905-00-NIB-0001—Link, Hasp and Strap Assembly

9905-00-NIB-0014—Link, Hasp and Strap Assembly

Designated Source of Supply: Mississippi Industries for the Blind, Jackson, MS

Contracting Activity: U.S. Postal Service, Washington, DC, Washington, DC

Michael R. Jurkowski,
Deputy Director, Business & PL Operations.

[FR Doc. 2020-27319 Filed 12-10-20; 8:45 am]

BILLING CODE 6353-01-P